DEPARTMENT OF THE INTERIOR

National Park Service

[NPS-MWR-MIMI-11876; 1305-726]

Boundary Revision of Minuteman Missile National Historic Site

AGENCY: National Park Service, Interior.

ACTION: Notification of Boundary Revision.

SUMMARY: Notice is hereby given that, pursuant to Section 3(f)(2)(B) of the Act of November 29, 1999 (Pub. L. 106-115, 113 Stat. 1540-1543), the boundary of Minuteman Missile National Historic Site in the State of South Dakota is modified to include two parcels containing approximately 28.65 acres of unimproved land more specifically identified below. The property is owned by the United States of America and presently administered by the United States Forest Service. Through a General Management Plan dated July 2, 2009, the National Park Service determined that these parcels are the appropriate location for a visitor facility and administrative site. The boundary revision is depicted on Map No. 406/80,011A, dated January 14, 2011. The map is available for inspection at the following locations: National Park Service, Midwest Region Land Resources Program Center, 601 Riverfront Drive, Omaha, Nebraska 68102; National Park Service, Department of the Interior, Washington, DC 20240; and at the Office for the Superintendent, Minuteman Missile National Historic Site, 21208 SD Hwy. 240, Philip, South Dakota 57567.

The legal descriptions of the two land parcels being included within Minuteman Missile National Historic Site are as follows: All that certain parcel of land situated in Section 25, Township 2 South, Range 18 East, and Section 30, Township 2 South, Range 19 East, of the Black Hills Meridian, Jackson County, South Dakota, and being more particularly described as follows: Commencing at the Northwest corner of Section 30, Township 2 South, Range 19 East; thence S2°01′56″W, 1619.93 feet along the West section line of said Section 30 to the point of beginning; thence S87°58′04″E, 1189.70 feet; thence S2°01′56″W, 466.70 feet; thence N87°58′04″W, 466.70 feet; thence N2°01′56″E, 366.70 feet; thence N87°58′04″W, 723.00 feet to a point on the section line between Sections 25 and 30, being 1719.93 feet south of the northeast corner of Section 25; thence N87°58′04″W, 33.00 feet; thence S2°01′56″W, 350.07 feet; thence N88°05′47″W, 67.00 feet; thence S2°01′56″W, 570.00 feet to a point on the quarter section line; thence N88°05′47″W, 558.00 feet along said quarter section line; thence N2 °01′56″E, 1334.45 feet; thence S88°05′47″E, 625.00 feet; thence S2°01′56″W, 314.38 feet; thence S87°58′04″E, 33.00 feet to the point of beginning. Said Parcel contains 25.00 acres more or less.

ALSO All that part of the Northwest Quarter of the Northwest Quarter of Section 15, Township 2 South, Range 18 East, of the Black Hills Meridian, in Jackson County, South Dakota, described as follows: Beginning at the Northwest corner of Section 15; thence S88°54′52″E, along the north line of said NW ¼ of the NW ¼ of Section 15, a distance of 292.60 feet; thence S01°01′56″W a distance of 542.90 feet; thence N88°54′52″W a distance of 292.60 feet to the west line of said NW ¼ of the NW ¼; thence N01°01′56″E, along said west line, a distance of 542.90 feet to the point of beginning. Said Parcel contains 3.65 acres more or less.

FOR FURTHER INFORMATION CONTACT: Superintendent Ruben Andrade, Minuteman Missile National Historic Site, 21208 SD Hwy. 240, Philip, South Dakota 57567, telephone (605) 433-5552.

DATES: The effective date of this boundary revision is February 1, 2013.

SUPPLEMENTARY INFORMATION: The Act of November 29, 1999 (Pub. L. 106-115, 113 Stat. 1540-1543), authorizes the Secretary to determine the appropriate location for a visitor facility and administrative site for Minuteman Missile National Historic Site, and to modify the boundary to include the selected site. Section 3(e)(1)(C) of the Act further provides that such lands included in the boundary may be acquired by exchange or transfer from another Federal agency.

Dated: December 20, 2012.
Michael T. Reynolds,
Regional Director, Midwest Region.

[FR Doc. 2013-02177 Filed 1-31-13; 8:45 am]

BILLING CODE 4310-MA-P